DEPARTMENT OF ENERGY

Federal Energy Regulatory Commission

Combined Notice of Filings #1

Take notice that the Commission received the following electric corporate filings:

Docket Numbers: EC16-136-000.

Applicants: Patua Acquisition Company, LLC, Patua Project, LLC.

Description: Application For Prospective Authorization Under Section 203 of the Federal Power Act and Requests for Shortened Comment Period, Expedited Treatment, and Waivers of Patua Acquisition Company, LLC, et al.

Filed Date: 6/29/16.

Accession Number: 20160629-5213.

Comments Due: 5 p.m. ET 7/20/16.

Take notice that the Commission received the following electric rate filings:

Docket Numbers: ER10-2867-003; ER10-2862-003; ER11-4625-003; ER13-2169-002; ER11-3634-003.

Applicants: Valencia Power, LLC, Harbor Cogeneration Company, LLC, Colton Power L.P., Goal Line L.P., KES Kingsburg, L.P.

Description: Triennial Market Power Analysis Filing for Southwest Region of the SGOC MBR Companies.

Filed Date: 6/29/16.

Accession Number: 20160629-5215.

Comments Due: 5 p.m. ET 8/29/16.

Docket Numbers: ER10-3097-006.

Applicants: Bruce Power Inc.

Description: Updated Market Power Analysis for the Southwest Region of Bruce Power Inc.

Filed Date: 6/29/16.

Accession Number: 20160629-5238.

Comments Due: 5 p.m. ET 8/29/16.

Docket Numbers: ER11-1858-006.

Applicants: NorthWestern Corporation.

Description: Triennial Market Power Analysis for the Northwest Region of NorthWestern Corporation.

Filed Date: 6/29/16.

Accession Number: 20160629-5239.

Comments Due: 5 p.m. ET 8/29/16.

Docket Numbers: ER11-3013-006; ER10-2870-007; ER10-2865-007.

Applicants: Coolidge Power LLC, TransCanada Power Marketing Ltd, TransCanada Energy Sales Ltd.

Description: Amendment to June 28, 2016 Updated Market Power Analysis for the Southwest Region of the TransCanada Entities.

Filed Date: 6/29/16.

Accession Number: 20160629-5222.

Comments Due: 5 p.m. ET 8/29/16.

Docket Numbers: ER16-2074-000.

Applicants: Equilon Enterprises LLC.

Description: Market-Based Triennial Review Filing: Southwest Triennial & 819 Tariff Revisions to be effective 6/30/2016.

Filed Date: 6/29/16.

Accession Number: 20160629-5206.

Comments Due: 5 p.m. ET 8/29/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 30, 2016.
Nathaniel J. Davis, Sr.,
Deputy Secretary.

[FR Doc. 2016-16237 Filed 7-8-16; 8:45 am]

BILLING CODE 6717-01-P